DEPARTMENT OF TRANSPORTATON

Office of the Secretary

49 CFR Part 1

[OST Docket No. 1999-6189]

Organization and Delegation of Powers and Duties Delegations to the Maritime Administrator

AGENCY: Office of the Secretary, DOT.

ACTION: Final rule.

SUMMARY: The Secretary of Transportation (Secretary) is delegating to the Maritime Administrator his authorities under Title XXXV, the Maritime Security Act of 2003, of the National Defense Authorization Act for Fiscal Year 2004, Public Law 108-136, specifically, section 3517—Maintenance and Repair Reimbursement Pilot Program, subtitle C—Maritime Security Fleet, and subtitle D—National Defense Tank Vessel Construction Assistance.

EFFECTIVE DATE: March 18, 2004.

FOR FURTHER INFORMATION CONTACT: Richard Weaver, Director, Office of Management and Information Services, Maritime Administration, MAR-310, Room 7301, 400 Seventh Street, SW., Washington, DC 20590, Phone: (202) 366-2811.

SUPPLEMENTARY INFORMATION: The Secretary of Transportation is delegating to the Maritime Administrator his authority under Public Law 108-136, Title XXXV, the Maritime Security Act of 2003, of the National Defense Authorization Act for Fiscal Year 2004, to:

Under section 3517, carry out a pilot program under which the Secretary may enter into an agreement with a Maritime Security Fleet contractor regarding maintenance and repair of a vessel that is subject to an operating agreement.

Under Subtitle C, which inserted a new subtitle, Subtitle V—Merchant Marine, in Title 46, United States Code, establish a Maritime Security Fleet and to take other actions in furtherance of that authority. Some examples of the actions enumerated are: to require related operating agreements; to accept applications for enrollment of vessels in the Fleet; to approve, in conjunction with the Secretary of Defense, applications for enrollment of vessels in the Fleet within 90 days of receipt of an application, or provide in writing the reason for denial of that application; and to promulgate regulations for the program.

Under Subtitle D, establish a program for the provision of financial assistance for the construction in the United States of a fleet of up to 5 privately owned product tank vessels—(1) to be operated in commercial service in foreign commerce; and (2) to be available for national defense purposes in time of war or national emergency pursuant to an Emergency Preparedness Agreement approved by the Secretary of Defense.

This amendment adds 49 CFR 1.66(ee) through 1.66(gg) to reflect the Secretary of Transportation's delegation of these authorities. Since this amendment relates to departmental organization, procedure and practice, notice and comment are unnecessary under 5 U.S.C. 553(b). Further, since the amendment expedites the Maritime Administration's ability to meet the statutory intent of the applicable laws and regulations covered by this delegation, the Secretary finds good cause under 5 U.S.C. 553(d)(3) for the final rule to be effective on the date of publication in the Federal Register.

List of Subjects in 49 CFR Part 1

Authority delegations (Government agencies), Organization and functions (Government agencies).

In consideration of the foregoing, part 1 of title 49, Code of Federal Regulations, is amended, effective upon publication, to read as follows:

PART 1—[AMENDED]

1. The authority citation for part 1 continues to read as follows:

Authority: 49 U.S.C. 322; 46 U.S.C. 2104(a); 28 U.S.C. 2672; 31 U.S.C. 3711(a)(2); Pub. L. 101-552, 104 Stat. 2736; Pub. L. 106-159, 113 Stat. 1748; Pub. L. 107-71, 115 Stat. 597.

2. Section 1.66 is amended by adding paragraphs (ee) through (gg) to read as follows:

§ 1.66 Delegations to Maritime Administrator.

* * * * *

(ee) Carry out the functions and exercise the authorities vested in the Secretary by section 3517 of Title XXXV of Public Law 108-136 which relates to the Maintenance and Repair Reimbursement Pilot Program.

(ff) Carry out the functions and exercise the authorities vested in the Secretary by Subtitle V of title 46 United States Code, which establishes the Maritime Security Fleet.

(gg) Carry out the functions and exercise the authorities vested in the Secretary by Subtitle D of Title XXXV of Public Law 108-136, which relates to the National Defense Tank Vessel Construction Assistance Program.

Issued at Washington, DC, this 10th day of March, 2004.
Norman Y. Mineta,
Secretary of Transportation.

[FR Doc. 04-6095 Filed 3-17-04; 8:45 am]

BILLING CODE 4910-62-P